DEPARTMENT OF ENERGY

Federal Energy Regulatory Commission

[Docket No. AD19-9-000]

Notice of Electric Quarterly Report Users Group Meeting

On December 4, 2018 the Federal Energy Regulatory Commission (Commission) issued a notice that Commission staff will hold an Electric Quarterly Report (EQR) Users Group meeting on February 14, 2019. The meeting will take place from 1:00 p.m. to 5:00 p.m. (EST), in the Commission Meeting Room at 888 First Street NE, Washington, DC 20426. All interested persons are invited to attend. For those unable to attend in person, access to the meeting will be available via webcast.

Commission staff is hereby supplementing the December 4, 2018 notice with the agenda for discussion. During the meeting, Commission staff and EQR users will discuss recent improvements to the EQR program, potential improvements to the EQR program, and the EQR filing process. Staff is requesting that discussion topics for the meeting be emailed to EQRUsersGroup@ferc.gov.

Please note that matters pending before the Commission and subject to ex parte limitations cannot be discussed at this meeting. An agenda of the meeting is attached.

Due to the nature of the discussion, those interested in participating are encouraged to attend in person. All interested persons (whether attending in person or via webcast) are asked to register online at https://www.ferc.gov/whats-new/registration/02-14-19-form.asp. There is no registration fee to participate in the meeting. Anyone with internet access can listen to the meeting by navigating to www.ferc.gov's Calendar of Events, locating the EQR Users Group Meeting on the Calendar, and clicking on the link to the webcast. The webcast will allow persons to listen to the technical conference. Please send questions during the meeting to EQRUsersGroup@ferc.gov. In the event you would also like to participate in the meeting dialogue by phone please select the telephone option when registering. If you have already registered for the meeting, and would like to participate by phone, please re-register and select the telephone option.

Commission conferences are accessible under section 508 of the Rehabilitation Act of 1973. For accessibility accommodations, please send an email to accessibility@ferc.gov or call toll free 1-866-208-3372 (voice) or 202-208-1659 (TTY), or send a FAX to 202-208-2106 with the required accommodations.

For more information about the EQR Users Group meeting, please contact Jeff Sanders of the Commission's Office of Enforcement at (202) 502-6455, or send an email to EQRUsersGroup@ferc.gov.

Dated: January 11, 2019.
Kimberly D. Bose,
Secretary.

AGENDA

EQR Users Group Meeting—Commission Meeting Room

February 14, 2019

1:00-1:15 p.m.—Welcome, Introductions, and Logistics

1:15-1:45 p.m.—Updates Since Last Meeting

1:45-2:15 p.m.—Discussion on EQR Product Fields

2:15-2:45 p.m.—Large Data Files

2:45-3:00 p.m.—Break

3:00-3:30 p.m.—EQR Self-Reports

3:30-4:30 p.m.—EQR Reassessment Project

4:30-5:00 p.m.—Open Discussion

5:00 p.m.—End of Meeting—Closing Remarks

[FR Doc. 2019-00762 Filed 1-31-19; 8:45 am]

BILLING CODE 6717-01-P